DEPARTMENT OF COMMERCE

National Oceanic and Atmospheric Administration

Membership of the National Oceanic and Atmospheric Administration Performance Review Board

AGENCY: National Oceanic and Atmospheric Administration (NOAA), Department of Commerce (DOC).

ACTION: Notice of Membership of the NOAA Performance Review Board.

SUMMARY: In accordance with 5 U.S.C. 4314(c)(4), NOAA announces the appointment of members who will serve on the NOAA Performance Review Board (PRB). The NOAA PRB is responsible for reviewing performance appraisals and ratings of Senior Executive Service Professional members and making written recommendations to the appointing authority on retention and compensation matters, including performance-based pay adjustments, awarding of bonuses, and reviewing recommendations for potential Presidential Rank Award nominees. The appointment of new members to the NOAA PRB will be for a period of two (2) years.

DATES: Effective Date: The effective date of service of the eight new appointees to the NOAA Performance Review Board is September 30, 2014.

FOR FURTHER INFORMATION CONTACT: Christine Nalli, Executive Resources Program Manager, Workforce Management Office, NOAA, 1305 East-West Highway, Silver Spring, Maryland 20910, (301) 713-6301.

SUPPLEMENTARY INFORMATION: The names and positions of the members for the 2014 NOAA PRB are set forth below:

Mark S. Paese, Chair, Deputy Assistant Administrator, National Environmental Satellite, Data and Information Service.

Jason A. Donaldson, Co-Chair, Chief Financial Officer/Chief Administrative Officer, Office of Oceanic and Atmospheric Research.

Ciaran M. Clayton, Director of Communications, Office of the Under Secretary.

Michael E. Phelps, Director, Office of Budget, Office of the Secretary, U.S. Department of Commerce.

RDML Anita L. Lopez, Deputy Director, for Operations, OMAO and Deputy Director, NOAA Corps.

Louisa Koch, Director, Office of Education, Office of the Deputy Under Secretary.

Paul N. Doremus, Deputy Assistant Administrator for Operations, National Marine Fisheries Service.

Russell F. Smith, III, Deputy Assistant Secretary for International Fisheries, Office of the Deputy Under Secretary.

Dated: September 22, 2014.
Kathryn D. Sullivan,
Under Secretary of Commerce for Oceans and Atmosphere.

[FR Doc. 2014-23307 Filed 9-30-14; 8:45 am]

BILLING CODE 3510-12-P